DEPARTMENT OF JUSTICE

[OMB Number 1121-0360]

Agency Information Collection Activities; Proposed eCollection eComments Requested; Extension of a Previously Approved Collection; Generic Clearance for Cognitive, Pilot, and Field Studies for Office of Juvenile Justice and Delinquency Prevention Data Collection Activities

AGENCY: Office of Justice Programs, Department of Justice.

ACTION: 60-Day notice.

SUMMARY: The National Institute of Justice, Office of Justice Programs, Department of Justice (DOJ), will be submitting the following generic information collection request to the Office of Management and Budget (OMB) for review and approval in accordance with the Paperwork Reduction Act of 1995.

DATES: Comments are encouraged and will be accepted for 60 days until November 24, 2023.

FOR FURTHER INFORMATION CONTACT: If you have additional comments especially on the estimated public burden or associated response time, suggestions, or need a copy of the proposed information collection instrument with instructions or additional information, please contact Benjamin Adams, Supervisory Social Science Analyst, National Institute of Justice, 810 Seventh Street NW, Washington, DC 20531 (email: benjamin.adams@usdoj.gov; telephone: 202-616-3687).

SUPPLEMENTARY INFORMATION: Written comments and suggestions from the public and affected agencies concerning the proposed collection of information are encouraged. Your comments should address one or more of the following four points:

—Evaluate whether the proposed collection of information is necessary for the proper performance of the functions of the Office of Juvenile Justice and Delinquency Prevention, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Abstract: The proposed generic information collection clearance will enable the National Institute of Justice (NIJ), on behalf of the Office of Juvenile Justice and Delinquency Prevention (OJJDP), to develop, test, and improve its survey and data collection instruments and methodologies. NIJ will engage in cognitive, pilot, and field test activities to inform its data collection efforts and to minimize respondent burden associated with each new or modified data collection. NIJ anticipates using a variety of procedures including, but not limited to, tests of various types of survey and data collection operations, focus groups, cognitive laboratory activities, pilot testing, field testing, exploratory interviews, experiments with questionnaire design, and usability testing of electronic data collection instruments. Following standard Office of Management and Budget (OMB) requirements, NIJ will submit an individual request to OMB for every group of data collection activities undertaken under this generic clearance. NIJ will provide OMB with a copy of the individual instruments or questionnaires (if one is used), as well as other materials describing the project.

Overview of This Information Collection

1. Type of Information Collection: Extension of a currently approved collection.

2. The Title of the Form/Collection: Generic Clearance for Cognitive, Pilot, and Field Studies for Office of Juvenile Justice and Delinquency Prevention Data Collection Activities.

3. The agency form number, if any, and the applicable component of the Department sponsoring the collection: Form numbers are not available for a generic clearance. The applicable components within the Department of Justice are the National Institute of Justice and the Office of Juvenile Justice and Delinquency Prevention, in the Office of Justice Programs.

4. Affected public who will be asked or required to respond, as well as the obligation to respond: Affected Public: State, local and tribal governments, individuals or households, Private Sector—businesses for or not for profit institutions. The obligation to respond is voluntary.

5. An estimate of the total number of respondents and the amount of time estimated for an average respondent to respond: It is estimated that approximately 2,500 respondents will be involved in the anticipated cognitive, pilot, and field-testing work over the 3-year clearance period. Specific estimates for the average response time are not known for development work covered under a generic clearance.

6. An estimate of the total annual burden (in hours) associated with the collection: The estimated public burden for identified and future projects covered under this generic clearance over the 3-year clearance period is approximately 4,000 hours.

7. An estimate of the total annual cost burden associated with the collection, if applicable: The estimated annual cost burden for this collection is $0.

Total Burden Hours
Activity | Number of respondents | Frequency | Total annual responses | Time per response (minutes) | Total annual burden (hours)
Generic information collections activities | 2,500 | 1 | 2,500 | 96 | 4,000
Unduplicated Totals | 2,500 |  | 2,500 |  | 4,000

If additional information is required contact: Darwin Arceo, Department Clearance Officer, United States Department of Justice, Justice Management Division, Policy and Planning Staff, Two Constitution Square, 145 N Street NE, 4W-218, Washington, DC.

Dated: September 19, 2023.
Darwin Arceo,
Department Clearance Officer for PRA, U.S. Department of Justice.

[FR Doc. 2023-20639 Filed 9-22-23; 8:45 am]

BILLING CODE 4410-18-P